DEPARTMENT OF COMMERCE

National Oceanic and Atmospheric Administration

50 CFR Part 660

RIN 0648-BA40

[Docket No. 101221628-0628-01]

Fisheries Off West Coast States; Pacific Coast Groundfish Fishery Management Plan; Amendments 20 and 21; Trawl Rationalization Program; Pacific Halibut Bycatch Quota for the Remainder of the 2011 Fishery

AGENCY: National Marine Fisheries Service (NMFS), National Oceanic and Atmospheric Administration (NOAA), Commerce.

ACTION: Agency determination.

SUMMARY: NMFS announces that the provisions for the Pacific halibut trawl mortality bycatch limit and for calculation of Pacific halibut individual bycatch quota (IBQ) pounds in the Shorebased Individual Fishing Quota (IFQ) Program will remain in effect for the remainder of the 2011 groundfish fishery. This announcement is required in order to maintain the current amount of Pacific halibut IBQ pounds in the Shorebased IFQ Program.

DATES: Effective on July 19, 2011.

ADDRESSES: Background information and documents are available from William W. Stelle, Jr., Regional Administrator, Northwest Region, NMFS, 7600 Sand Point Way NE., Seattle, WA 98115-0070; or by phone at 206-526-6150.

FOR FURTHER INFORMATION CONTACT: Gretchen A. Hanshew, 206-526-6147; (fax) 206-526-6736; Gretchen.Hanshew@noaa.gov.

SUPPLEMENTARY INFORMATION: On December 30, 2010, NMFS published a rule (75 FR 82296) that, among other actions, revised the Pacific halibut trawl mortality bycatch limit, specified at § 660.55(m), subpart C, and calculations for issuance of IBQ pounds in the Shorebased IFQ Program, specified at § 660.140(d)(1)(ii)(C), subpart D. Further background information for this action is provided in the preamble text of the December 30, 2010, rule and in the supporting documents for that action, and is not repeated here.

One public comment letter was received in response to the December 30, 2010, rule. In its January 31, 2011, letter, the Natural Resource Defense Council urged NMFS to provide adequate protection and adopt conservative harvest levels for rebuilding groundfish species, particularly for yelloweye rockfish, cowcod and darkblotched rockfish. No comments were made specific to provisions at § 660.55(m), subpart C, or § 660.140(d)(1)(ii)(C), subpart D. The provisions that were the subject of the January 31, 2011, letter of comment were superseded by the final rule for the 2011-2012 biennial specifications and management measures (May 11, 2011, 76 FR 27508), and are not related to the measures at issue in this notice.

The Pacific Fishery Management Council is actively working to prepare an amendment to the Pacific Coast Groundfish Fishery Management Plan to address the Pacific halibut trawl mortality bycatch limit and calculation of Pacific halibut IBQ pounds in the Shorebased IFQ Program for 2012 and beyond.

Therefore, this document announces the agency determination made prior to June 29, 2011, to continue through December 31, 2011, the measures set forth in the December 30, 2010, rule at § 660.55(m), subpart C, and § 660.140(d)(1)(ii)(C), subpart D.

Authority: 16 U.S.C. 1801 et seq. and 16 U.S.C. 7001 et seq.

Dated: July 12, 2011.
Samuel D. Rauch III,
Deputy Assistant Administrator for Regulatory Programs, National Marine Fisheries Service.

[FR Doc. 2011-18013 Filed 7-18-11; 8:45 am]

BILLING CODE 3510-22-P